DEPARTMENT OF THE INTERIOR

Bureau of Land Management

[LLMTB010000. L16100000. DP0000. MO 4500094302.]

Notice of Intent To Prepare a Resource Management Plan and Associated Environmental Impact Statement for the Missoula Field Office, Montana

AGENCY: Bureau of Land Management, Interior.

ACTION: Notice.

SUMMARY: In compliance with the National Environmental Policy Act of 1969, as amended (NEPA), and the Federal Land Policy and Management Act of 1976, as amended, the Bureau of Land Management (BLM) Missoula Field Office intends to prepare a Resource Management Plan (RMP) with an associated Environmental Impact Statement (EIS) for BLM public lands and resources managed by the Missoula Field Office in western Montana (Flathead, Granite, Lake, Lincoln, Mineral, Missoula, Powell, Ravalli, and Sanders counties) and by this notice is announcing the beginning of the scoping process to solicit public comments and identify issues.

DATES: This notice initiates the public scoping process for the RMP with the associated EIS. Comments on issues may be submitted in writing until February 10, 2017. The date(s) and location(s) of any scoping meetings will be announced at least 15 days in advance through local news media, newspapers and the BLM Web site at: http://www.blm.gov/mt/st/en/fo/missoula_field_office.html. In order to be included in the analysis, all comments must be received prior to the close of the 60-day scoping period or 15 days after the last public meeting, whichever is later. We will provide additional opportunities for public participation as appropriate.

ADDRESSES: You may submit comments on issues and planning criteria related to the Resource Management Plan and Associated EIS for the Missoula Field Office at the Missoula Field Office, 3255 Fort Missoula Road, Missoula, MT 59804, during regular business hours from 8:00 a.m. to 4:30 p.m., Monday through Friday, except holidays, or online at http://www.blm.gov/mt/st/en/fo/missoula_field_office.html. Documents pertinent to this proposal may be examined at the Missoula Field Office, 3255 Fort Missoula Road, Missoula, MT 59804.

FOR FURTHER INFORMATION CONTACT: Maggie Ward, RMP Project Manager, Missoula Field Office, at (406) 329-3914 or by email: blm_mt_MissoulaRMP@blm.gov to have your name added to our mailing list. Persons who use a telecommunications device for the deaf (TDD) may call the Federal Relay Service at 1-800-877-8339 to contact the above individual during normal business hours. The Service is available 24 hours a day, 7 days a week, to leave a message or question with the above individual. You will receive a reply during normal business hours.

SUPPLEMENTARY INFORMATION: This document provides notice that the BLM Field Office, Missoula, Montana intends to prepare a revised RMP with associated EIS, for the Missoula Field Office, announces the beginning of the scoping process, and seeks public input on issues and planning criteria. The area to be covered under the Missoula RMP/EIS is located in the western part of Montana in Flathead, Granite, Lake, Lincoln, Mineral, Missoula, Powell, Ravalli, and Sanders counties. The Missoula RMP planning area comprises approximately 156,000 acres of BLM-managed surface lands and 268,660 acres of BLM-administered Federal minerals. Over 99 percent of the BLM-managed surface lands are in the Granite, Missoula, and Powell counties. The purpose of the public scoping process is to determine relevant issues that will influence the scope of the environmental analysis, including alternatives, and guide the planning process. Preliminary issues for the planning area have been identified by BLM personnel; Federal, State, and local agencies; and other stakeholders.

Preliminary management concerns and planning criteria have been identified by BLM personnel and other agencies. The information in this NOI represents the BLM's knowledge to date regarding the existing issues and concerns with current land management to replace the existing Garnet Resource Area RMP, dated May 1986, as amended. The preliminary issues and themes that will be addressed in this planning effort include:

• Vegetation Management—How should BLM-administered lands be managed, temporally and spatially, to provide for ecological resiliency for fish and wildlife habitat and provide a supply of forest products that contribute to the economic stability of communities?

• Wildland Fire and Fuels—How should BLM-administered lands be managed to reduce the risk of wildfires to communities and integrate fire back into the ecosystem?

• Threatened and Endangered Species Habitats—How should BLM-administered lands be managed to contribute to the recovery of the Canadian lynx, grizzly bear, and bull trout?

• Watershed Management—How should BLM-administered lands be managed to contribute to restoring and maintaining the chemical, physical, and biological integrity of the Nation's waters, as well as a safe drinking water supply?

• Cultural and Heritage—How should BLM-administered lands be managed to contribute to the cultural and heritage values of the communities?

• Economics and Community—How should BLM-administered lands be managed to contribute to local economies and infrastructure needs through recreation opportunities, rights-of-ways, mineral exploration and mining, livestock grazing, and forest products?

• Recreation—Where and to what extent should the BLM manage developed recreation sites, identify new recreation sites, and improve recreation opportunities and beneficial outcomes; and direct use away from areas of conflict? How should BLM-administered lands be managed to meet the demand for off-highway vehicle use while protecting other resources and resource uses?

• Lands, Realty, Access—How should the BLM-administered lands improve public access and resource management through retention, exchange, or disposal?

• Special Management Area Designations—How should the BLM consider nominations for new areas of critical environmental concern (ACECs) and any comments specific to the three existing ACECs including Rattler Gulch Limestone Cliffs ACEC, Bear Creek Flats ACEC, and Phil Wright Rock ACEC; evaluate and determine wild and scenic river suitability of the six eligible river segments (Belmont Creek, Rock Creek, Gallagher Creek, and three segments on the Blackfoot); and consider appropriate management consistent with laws and policies for the Lewis and Clark National Historic Trail; three Wilderness Study Areas (WSA) including Wales Creek WSA, Hoodoo Mountain WSA, and Quigg West WSA; and the Garnet Range Back Country Byway.

You may submit comments on issues and planning criteria in writing to the BLM at any public scoping meeting, or by using one of the methods listed in the ADDRESSES section above. To be most helpful, you should submit comments by the close of the 60-day scoping period or within 15 days after the last public meeting, whichever is later. Before including your address, phone number, email address, or other personal identifying information in your comment, you should be aware that your entire comment, including your personal identifying information, may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan and will place them into one of three categories:

1. Issues to be resolved in the revised plan;

2. Issues to be resolved through policy or administrative action; or

3. Issues beyond the scope of this revised plan.

The BLM will provide an explanation in the Draft RMP/Draft EIS as to why an issue was placed in category two or three. The public is also encouraged to help identify any management questions and concerns that should be addressed in the plan. The BLM will work collaboratively with interested parties to identify the management decisions that are best suited to local, regional, and national needs and concerns.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

The BLM will use an interdisciplinary approach to address a variety of land management issues, such as rangeland management, minerals and geology, forestry, outdoor recreation, archaeology, paleontology, wildlife and fisheries, lands and realty, hydrology, soils, sociology, and economics.

Authority: 40 CFR 1501.7 and 43 CFR 1610.2

Jamie Connell,
State Director.

[FR Doc. 2016-29553 Filed 12-9-16; 8:45 am]

BILLING CODE 4310-DN-P